DEPARTMENT OF COMMERCE

International Trade Administration

[A-570-104]

Alloy and Certain Carbon Steel Threaded Rod From the People's Republic of China: Final Results of the Expedited First Sunset Review of the Antidumping Duty Order

AGENCY: Enforcement and Compliance, International Trade Administration, Department of Commerce.

SUMMARY: As a result of this expedited sunset review, the U.S. Department of Commerce (Commerce) finds that revocation of the antidumping duty (AD) order on alloy and certain carbon steel threaded rod from the People's Republic of China (China) would be likely to lead to continuation or recurrence of dumping at the levels indicated in the “Final Results of Sunset Review” section of this notice.

DATES: Applicable February 27, 2025.

FOR FURTHER INFORMATION CONTACT: Thomas Martin, AD/CVD Operations, Office IV, Enforcement and Compliance, International Trade Administration, U.S. Department of Commerce, 1401 Constitution Avenue NW, Washington, DC 20230; telephone: (202) 482-3299.

SUPPLEMENTARY INFORMATION:

Background

On April 9, 2020, the U.S. Department of Commerce (Commerce) published the Order.¹ On November 4, 2024, Commerce published the notice of initiation of the first sunset review of the Order, pursuant to section 751(c)(2) of the Act.²

¹ See Alloy and Certain Carbon Steel Threaded Rod From the People's Republic of China: Antidumping Duty Order, 85 FR 19929 (April 9, 2020) (Order).

² See Initiation of Five-Year (Sunset) Reviews, 89 FR 87543 (November 4, 2024).

On November 19, 2024, Commerce received the notice of intent to participate in these reviews from the domestic interested party within the deadline specified in 19 CFR 351.218(d)(1)(i).³ The domestic interested party claimed the interested party status under section 771(9)(C) of the Act as a producer of the domestic like product in the United States.⁴ On November 25, 2024, Commerce notified the U.S. International Trade Commission (ITC) that it received a notice of intent to participate from the domestic interested party.⁵

³ See Domestic Interested Party's Letter, “Five-Year (Sunset) Review of the Antidumping Duty Order on Carbon and Alloy Steel Threaded Rod from the People's Republic of China—Petitioner's Notice of Intent to Participate” dated November 19, 2024.

⁴ Id.

⁵ See Commerce's Letter, “Sunset Reviews Initiated on November 4, 2024,” dated November 25, 2024.

On December 2, 2024, Commerce received an adequate substantive response from the domestic interested party within the 30-day deadline specified in 19 CFR 351.218(d)(3)(i).⁶ Commerce received no substantive responses from respondent interested parties. On December 26, 2024, Commerce notified the ITC that it did not receive substantive responses from any respondent interested parties.⁷ As a result, pursuant to section 751(c)(3)(B) of the Act and 19 CFR 351.218(e)(1)(ii)(C)(2), Commerce is conducting expedited (120-day) sunset reviews of the Order.

⁶ See Domestic Interested Party's Letters, “Five-Year (Sunset) Review of the Antidumping Duty Order on Carbon and Alloy Steel Threaded Rod from the People's Republic of China—Petitioner's Substantive Response to Notice of Initiation” dated December 2, 2024 (Substantive Response).

⁷ See Commerce's Letter, “Sunset Reviews Initiated on November 4, 2024,” dated December 26, 2024.

Scope of the Order

The product covered by the Order is alloy and certain steel threaded rod from China. For a full description of the scope, see the Issues and Decision Memorandum.⁸

⁸ See Memorandum, “Issues and Decision Memorandum for the Final Results of the Expedited First Sunset Review of the Antidumping Duty Order on Alloy and Certain Steel Threaded Rod from the People's Republic of China,” dated concurrently with, and hereby adopted by, this notice (Issues and Decision Memorandum).

Analysis of Comments Received

A complete discussion of all issues raised in this sunset review is contained in the accompanying Issues and Decision Memorandum.⁹ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁹ Id.

Final Result of Sunset Review

Pursuant to sections 751(c)(1) and 752(c)(1) and (3) of the Act, Commerce determines that revocation of the Order would be likely to lead to the continuation or recurrence of dumping and that the magnitude of the dumping likely to prevail are margins up to 59.45 percent.¹⁰

¹⁰ Id.

Administrative Protective Order (APO)

This notice serves as the only reminder to interested parties subject to an APO of their responsibility concerning the return/destruction or conversion to judicial protective order of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.218.

Dated: February 21, 2025.
Christopher Abbott,
Deputy Assistant Secretary for Policy and Negotiations, performing the non-exclusive functions and duties of the Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely To Prevail

VII. Final Results of Sunset Review

VIII. Recommendation

[FR Doc. 2025-03181 Filed 2-26-25; 8:45 am]

BILLING CODE 3510-DS-P